ENVIRONMENTAL PROTECTION AGENCY

[EPA-HQ-OPA-2008-0563 FRL-8701-1]

Relocation of National Oil and Hazardous Substance Pollution Contingency Plan, Subpart J Confidential Business Information Files

AGENCY: Environmental Protection Agency.

ACTION: Notice of Availability.

SUMMARY: The Environmental Protection Agency (EPA) Office of Solid Waste and Emergency Response, Office of Emergency Management announces that the Confidential Business Information (CBI) for products listed on the National Oil and Hazardous Substance Pollution Contingency Plan, under 40 CFR 300, Subpart J will be moved to a new contractor's office location. System Research and Applications Corporation (SRA) was awarded the new contract to support work on 40 CFR 300, Subpart J. The CBI files will be moved from the Computer Sciences Corporation (CSC) office in Alexandria, VA to SRA's office in Arlington, VA.

DATES: Comments must be received on or before August 11, 2008. The CBI files will be moved from the Computer Sciences Corporation (CSC) office in Alexandria, VA to SRA's office in Arlington, VA on Tuesday, August 12, 2008.

ADDRESSES: Submit your comments, identified by Docket ID No. EPA-HQ-OPA-2008-0563 by one of the following methods:

• http://www.regulations.gov: Follow the on-line instructions for submitting comment.

• Mail: The mailing address of the docket for this rule making is the EPA Docket Center (EPA/DC), Docket ID No. EPA-HQ-OPA-2008-0563, EPA West, Room 3334, 1301 Constitution Ave., NW., Washington, DC 20460.

• Hand Delivery: Such deliveries are only accepted during the Docket's normal hours of operation, and special arrangements should be made for deliveries of boxed information.

Instructions: Direct your comments to Docket ID No. EPA-HQ-OPA-2008-0563. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or superfund.docket@epa.gov. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy form at the EPA Docket Center, EPA/DC, EPA West, Room 3334, 1301 Constitution Ave., NW., Washington, DC. The Public Reading Room is open from 8:30 a.m. to 4:30 p.m., Monday through Friday, excluding legal holidays. The telephone number for the Public Reading Room is (202) 566-1744, and the telephone number for the EPA Docket Center, EPA/DC is (202) 566-0276.

FOR FURTHER INFORMATION CONTACT: Leigh DeHaven, Office of Solid Waste and Emergency Response, Office of Emergency Management (5104A), Environmental Protection Agency, 1200 Pennsylvania Avenue, NW.; Ariel Rios North, Room 6450EE, telephone number: (202) 564-1974; fax number: (202) 564-2625; e-mail address: dehaven.leigh@epa.gov. General information on 40 CFR 300, Subpart J and the NCP Product Schedule can be found on the NCP Product Schedule Web site at http://www.epa.gov/emergencies/content/ncp/index.htm.

Dated: July 30, 2008.
Deborah Y. Dietrich,
Director, Office of Emergency Management, Office of Solid Waste and Emergency Response.

[FR Doc. E8-17929 Filed 8-4-08; 8:45 am]

BILLING CODE 6560-50-P